DEPARTMENT OF THE INTERIOR

Bureau of Land Management

[LLNVS00000.L19200000.ET0000. LRORF1708700.XXX .MO# 4500140293]

Public Land Order No. 7890, Extension of Public Land Order No. 7419; Nevada

AGENCY: Bureau of Land Management, Interior.

ACTION: Public Land Order.

SUMMARY: This Public Land Order (PLO) extends the duration of the withdrawal created by PLO No. 7419, issued effective December 9, 1999, for an additional 20-year term. The extension is necessary for the Department of the Air Force (DAF), Nellis Air Force Base (AFB), to continue providing safety buffers from potentially hazardous areas, protect populated areas, and comply with Department of Defense Directive No. 6055.09E regarding ammunition and explosive safety standards on lands adjacent to the Live Ordnance Loading Areas at Nellis AFB, northeast of Las Vegas, Clark County, Nevada. The safety buffer zone includes security patrol roads and a security checkpoint.

DATES: This PLO takes effect on December 10, 2019.

FOR FURTHER INFORMATION CONTACT: Tom Seley, Project Manager, at email tseley@blm.gov or call 702-515-5293; Bureau of Land Management, Southern Nevada District Office, 4701 North Torrey Pines Drive, Las Vegas, NV 89130. Persons who use a telecommunications device for the deaf may call the Federal Relay Service (FRS) at 1-800-877-8339 to leave a message or question for the above individual. The FRS is available 24 hours a day, 7 days a week. You will receive a reply during normal business hours.

SUPPLEMENTARY INFORMATION: This Order extends the existing withdrawal to continue its protective purpose and reserve the lands for use by the DAF, Nellis AFB.

Order

By virtue of the authority vested in the Secretary of the Interior by Section 204(f) of the Federal Land Policy and Management Act of 1976, 43 U.S.C. 1714(f), it is ordered as follows:

1. Public Land Order No. 7419 (64 FR 69025 (1999)), which withdrew public lands from settlement, sale, location, or entry under the United States mining laws but not from leasing under the mineral leasing laws for the DAF Nellis AFB, with the legal land description amended as described in the November 19, 2018, Federal Register notice of withdrawal application (83 FR 58282), is hereby extended for a period of 20 years.

2. This withdrawal extended by this Order will expire on December 9, 2039, unless, as a result of a review conducted prior to the expiration date pursuant to Section 204(f) of the Federal Land Policy and Management Act of 1976, 43 U.S.C. 1714(f), the Secretary determines that the withdrawal shall be further extended.

Dated: December 2, 2019.
Rob Wallace,
Assistant Secretary for Fish and Wildlife and Parks.

[FR Doc. 2019-26335 Filed 12-5-19; 8:45 am]

BILLING CODE 4310-HC-P